DEPARTMENT OF TRANSPORTATION

Federal Aviation Administration

14 CFR Part 39

[Docket No. 2003-SW-34-AD; Amendment 39-13276; AD 2003-15-51]

RIN 2120-AA64

Airworthiness Directives; Eurocopter France Model SE3160, SA315B, SA316B, SA316C, and SA319B Helicopters

AGENCY: Federal Aviation Administration, DOT.

ACTION: Final rule; request for comments.

SUMMARY: This document publishes in the Federal Register an amendment adopting Airworthiness Directive (AD) 2003-15-51, which was sent previously to all known U.S. owners and operators of the specified model Eurocopter France (Eurocopter) helicopters by individual letters. This AD requires inspecting each main rotor blade (blade) root end bolt (bolt) and bolt hole for a crack or corrosion or a crack on the blade root end fitting (fitting) and for certain serial-numbered blades, a one-time pull test on each fitting and blade root end doubler (doubler) to detect disbonding. This amendment is prompted by a report from the blade manufacturer of the discovery of a cracked blade; the cause of the crack remains under investigation. The actions specified by this AD are intended to prevent failure of a blade and subsequent loss of control of the helicopter.

DATES: Effective September 12, 2003, to all persons except those persons to whom it was made immediately effective by Emergency AD 2003-15-51, issued on July 16, 2003, which contained the requirements of this amendment.

The incorporation by reference of certain publications listed in the regulations is approved by the Director of the Federal Register as of September 12, 2003.

Comments for inclusion in the Rules Docket must be received on or before October 27, 2003.

ADDRESSES: Submit comments in triplicate to the Federal Aviation Administration (FAA), Office of the Regional Counsel, Southwest Region, Attention: Rules Docket No. 2003-SW-34-AD, 2601 Meacham Blvd., Room 663, Fort Worth, Texas 76137. You may also send comments electronically to the Rules Docket at the following address: 9-asw-adcomments@faa.gov.

The service information referenced in this AD may be obtained from Rotor Trends, LLC, 1715 N. Pinal Avenue, Casa Grande, Arizona 85222, telephone: (520) 421-7482, fax: (520) 421-7458, E-mail: jmp@helisupport.com. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Jon Mowery, Aviation Safety Engineer, FAA, Los Angeles Aircraft Certification Office, Airframe Branch, 3960 Paramount Blvd., Lakewood, California 90712, telephone: (562) 627-5322, fax: (562) 627-5210.

SUPPLEMENTARY INFORMATION: On July 16, 2003, the FAA issued Emergency AD 2003-15-51 for the specified model helicopters, which requires inspecting the blade bolts and bolt holes for a crack or corrosion or a crack on the blade fittings using a 10x or higher magnifying glass, and for certain serial-numbered blades, a one-time pull test on the blade fittings and doublers to detect disbonding. That action was prompted by a report from the blade manufacturer of a cracked blade, which was discovered on May 27, 2003. The cause of the crack is unknown at this time, however investigation indicates that the crack may be attributable to a quality control system problem. This condition, if not corrected, could result in failure of a blade and subsequent loss of control of the helicopter.

The FAA has reviewed Rotor Trends, LLC Service Bulletin No. 01.03, dated July 9, 2003, which describes procedures for initial and repetitive inspections of the bolts and bolt holes for a crack or corrosion using a 10x magnifying glass and light. A one-time pull test on the blade fittings and doublers to detect disbonding is also described. If a crack is found on a blade fitting or in a bolt hole, or if any corrosion is found in a bolt hole or radiating from a bolt hole, or if disbonding is detected in the blade fittings or doublers, removing the blade and replacing it with an airworthy blade is specified. If corrosion is detected only on bolts, replacing the affected bolts with airworthy bolts is specified.

Since the unsafe condition described is likely to exist or develop on other Eurocopter Model SE3160, SA315B, SA316B, SA316C, and SA319B helicopters of the same type designs, the FAA issued Emergency AD 2003-15-51 to prevent failure of a blade and subsequent loss of control of the helicopter. The AD requires, for blades, part number (P/N) L3160-100-01 (all serial numbers), within 10 hours time-in-service (TIS) or 30 days, whichever occurs first, inspecting the blade bolts and bolt holes for a crack or corrosion using a 10x or higher magnifying glass. If a crack is found on a blade fitting or in a bolt hole, or if any corrosion is found in a bolt hole or radiating from a bolt hole, removing the blade and replacing it with an airworthy blade is required. If corrosion is detected only on bolts, replacing the affected bolts with airworthy bolts, P/N NAS1105, is required. The AD also requires, for blades, P/N L3160-100-01, serial numbers 600 through 671, within 50 hours TIS or 90 days, whichever occurs first, a one-time pull test on the blade fittings and doublers to detect disbonding. The actions must be accomplished in accordance with the service bulletin described previously. The short compliance time involved is required because the previously described critical unsafe condition can adversely affect controllability and structural integrity of the helicopter. Therefore, inspections, pull test, and replacements, if necessary, are required at short compliance times, and this AD must be issued immediately.

Since it was found that immediate corrective action was required, notice and opportunity for prior public comment thereon were impracticable and contrary to the public interest, and good cause existed to make the AD effective immediately by individual letters issued on July 16, 2003 to all known U.S. owners and operators of Eurocopter Model SE3160, SA315B, SA316B, SA316C, and SA319B helicopters. These conditions still exist, and the AD is hereby published in the Federal Register as an amendment to 14 CFR 39.13 to make it effective to all persons.

On July 10, 2002, the FAA issued a new version of 14 CFR part 39 (67 FR 47997, July 22, 2002), which governs the FAA's AD system. The regulation now includes material that relates to altered products, special flight permits, and alternative methods of compliance. Because we have now included this material in part 39, we no longer need to include it in each individual AD.

The FAA estimates that this AD will affect 30 helicopters of U.S. registry, and the visual inspection and pull test will take approximately 4 work hours each per helicopter to accomplish, and replacing the blades (if necessary) will take approximately 3 hours to accomplish at an average labor rate of $65 per work hour. Required parts will cost approximately $100,000 per helicopter, if replacement of the blades is necessary. Based on these figures, we estimate the total cost impact of the AD on U.S. operators to be $115,795 per helicopter, assuming one inspection per year and one pull test for each helicopter in the entire fleet; and, replacing the blades on one helicopter.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2003-SW-34-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-15-51 Eurocopter France: Amendment 39-13276. Docket No. 2003-SW-34-AD.

Applicability: Model SE3160, SA315B, SA316B, SA316C, and SA319B helicopters, with main rotor blade (blade), part number (P/N) L3160-100-01, produced under a Parts Manufacturer Approval approved by Supplemental Type Certificate SH778GL, installed, certificated in any category.

Compliance: Required as indicated, unless accomplished previously.

To prevent failure of a blade and subsequent loss of control of the helicopter, accomplish the following:

(a) For helicopters that have a blade, part number (P/N) L3160-100-01 (all serial numbers), installed, within 10 hours time-in-service (TIS) or 30 days, whichever occurs first, using a 10x or higher magnifying glass, visually inspect each blade root end bolt (bolt) and bolt hole for corrosion in a bolt hole or radiating from a bolt hole, or for a crack on a blade root end fitting (fitting) or in a bolt hole, in accordance with Part A of Rotor Trends, LLC Service Bulletin No. 01.03, dated July 9, 2003 (SB).

(b) If corrosion or a crack is found, replace the blade with an airworthy blade before further flight. If corrosion is detected only on a bolt, P/N NAS1105, replace the affected bolt with an airworthy bolt before further flight.

(c) For helicopters that have a blade, P/N L3160-100-01, serial numbers 600 through 671, installed, within 50 hours TIS or 90 days, whichever occurs first, conduct a one-time pull test on each fitting and blade root end doubler to detect disbonding in accordance with Part B of the SB, except that you are not required to contact or return a form to Rotor Trends, LLC.

(d) If disbonding is detected, replace the blade with an airworthy blade before further flight.

(e) To request a different method of compliance or a different compliance time for this AD, follow the procedures in 14 CFR 39.19. Contact the Los Angeles Aircraft Certification Office, Transport Airplane Directorate, FAA, for information about previously approved alternative methods of compliance.

(f) Special flight permits will not be issued.

(g) The visual inspections and pull test shall be done in accordance with Rotor Trends, LLC Service Bulletin No. 01.03, dated July 9, 2003. This incorporation by reference was approved by the Director of the Federal Register in accordance with 5 U.S.C. 552(a) and 1 CFR part 51. Copies may be obtained from Rotor Trends, LLC, 1715 N. Pinal Avenue, Casa Grande, Arizona 85222, telephone: (520) 421-7482, fax: (520) 421-7458, Email: jmp@helisupport.com. Copies may be inspected at the FAA, Office of the Regional Counsel, Southwest Region, Attention: Rules Docket No. 2003-SW-34-AD, 2601 Meacham Blvd., Room 663, Fort Worth, Texas 76137; or at the Office of the Federal Register, 800 North Capitol Street, NW., suite 700, Washington, DC.

(h) This amendment becomes effective on September 12, 2003, to all persons except those persons to whom it was made immediately effective by Emergency AD 2003-15-51, issued July 16, 2003, which contained the requirements of this amendment.

Issued in Fort Worth, Texas, on August 8, 2003.
David A. Downey,
Manager, Rotorcraft Directorate, Aircraft Certification Service.

[FR Doc. 03-21520 Filed 8-27-03; 8:45 am]

BILLING CODE 4910-13-P